DEPARTMENT OF DEFENSE

Defense Logistics Agency

Membership of the Defense Logistics Agency (DLA) Senior Executive Service (SES) Performance Review Board (PRB)

AGENCY: DLA.

ACTION: Notice of membership—2010 DLA PRB.

SUMMARY: This notice announces the appointment of members to the DLA SES Performance Review Board (PRB). The publication of PRB composition is required by 5 U.S.C. 4314(c)(4). The PRB provides fair and impartial review of SES performance appraisals and makes recommendations to the Director, DLA, with respect to pay level adjustments and performance awards and other actions related to management of the SES cadre.

DATES: Effective Date: September 16, 2010.

ADDRESSES: Defense Logistics Agency, 8725 John J. Kingman Road, Suite 2533, Fort Belvoir, Virginia 22060-6221.

FOR FURTHER INFORMATION CONTACT: Ms. Lisa Novajosky, SES Program Manager, DLA Human Resources (J-14), Defense Logistics Agency, (703) 767-6447.

SUPPLEMENTARY INFORMATION: In accordance with 5 U.S.C. 4314(c)(4), the following are the names and titles of DLA career executives appointed to serve as members of the SES PRB. Members will serve a 12-month term, which begins on September 16, 2010.

PRB Chair: Mr. J. Anthony Poleo, Director, DLA Finance.

Members:

Mr. Brad Bunn, Director, DLA Human Resources (Non-Voting Member);

Ms. Mae DeVincenis, Acting Director, DLA Logistics Operations;

Ms. Nancy Heimbaugh, Director, DLA Acquisitions.

A.S. Thompson,
Vice Admiral, Director.

[FR Doc. 2010-18200 Filed 7-26-10; 8:45 am]

BILLING CODE M